DEPARTMENT OF TRANSPORTATION

Federal Railroad Administration

[Docket Number FRA-2002-12408]

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Elgin, Joliet and Eastern Railway Company

The Elgin, Joliet and Eastern Railway Company (EJ&E) has petitioned the FRA for a waiver of compliance from the Railroad Locomotive Safety Standards, 49 CFR Part 229 and Locomotive Cab Sanitation, 49 CFR 229.137.

The EJ&E is asking for an extension of time for the installation of new toilet facilities in 27 locomotives. They are asking for an extension of one (1) year to be able to install two (2) toilets per month and bring them into full compliance with FRA regulations. The specific time period will terminate on July 1, 2003, approximately one (1) year. At the end of the extension of time requested, all locomotives should be up to standard and meet the FRA requirements and standards in regards to complying with the Locomotive Cab Sanitation requirements, 49 CFR 229.137.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2002-12408) and must be submitted to the Docket Clerk, DOT Docket Management Facility, Room PL-401 (Plaza Level), 400—7th Street, SW., Washington, DC 20590. Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's web site at http://dms.dot.gov.

Issued in Washington, DC on September 19, 2002.
Grady C. Cothen, Jr.,
Deputy Associate Administrator for Safety Standards and Program Development.

[FR Doc. 02-24725 Filed 9-27-02; 8:45 am]

BILLING CODE 4910-06-P